DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Initial Patent Applications.

Form Number(s): PTO/SB/01/01A/02A/02B/02LR/03/03A/04/05/06/07/13PCT/16/17/18/19/29/29A/101 through 110/Electronic New Utility and Provisional Application Forms.

Agency Approval Number: 0651-0032.

Type of Request: Revision of a currently approved collection.

Burden: 4,171,568 hours annually.

Number of Respondents: 454,287 responses per year.

Avg. Hours Per Response: The USPTO estimates that it takes between 24 minutes to 10 hours and 45 minutes to gather the information, prepare, and submit the various paper and electronic applications in this collection, depending on the situation and the amount of information that needs to be submitted. Based on estimates of similar petitions, the USPTO believes that it takes 1 hour to gather the information, prepare, and submit the petitions to accept an unintentionally delayed priority claim and to accept non-signing inventors or legal representatives. The USPTO estimates that it takes 22 minutes to copy an oversized new original utility or provisional application that cannot be submitted electronically through EFS onto a CD-ROM, print the application transmittal, and prepare the cover letter submitting the submission.

Needs and Uses: This collection of information is required by 35 U.S.C. 131 and 37 CFR 1.16 through 1.84. An applicant must provide sufficient information to allow the USPTO to properly examine the application to determine whether it meets the requirements outlined in the patent statutes and regulations. The various fee and application transmittal forms, the declarations, the cover sheets, and the petitions permit applicants to supply all of the information necessary to process the application and enables the USPTO to ensure that all of the information has been provided in order to process the application. If an applicant tries to file a new utility or provisional application electronically through EFS and cannot submit it because the application exceeds 10 megabytes, the application can be copied onto a CD-ROM and submitted to the USPTO for examination.

Affected Public: Individuals or households, business or other for-profit, not-for-profit institutions, farms, the Federal Government, and State, Local, or Tribal Governments.

Frequency: On occasion.

Respondent's Obligation: Required to obtain or retain benefits.

OMB Desk Officer: David Rostker, (202) 395-3897.

Copies of the above information collection proposal can be obtained by calling or writing Susan K. Brown, Records Officer, Office of Data Architecture and Services, Data Administration Division, U.S. Patent and Trademark Office, Suite 310, 2231 Crystal Drive, Arlington, VA 22202; by phone at 703 308-7400; or by e-mail at susan.brown@uspto.gov.

Written comments and recommendations for the proposed information collection should be sent on or before June 9, 2003 to David Rostker, OMB Desk Officer, Room 10202, New Executive Office Building, Washington, DC 20503.

Dated: May 1, 2003.
Susan K. Brown,
Records Officer, USPTO, Office of Data Architecture and Services, Data Administration Division.

[FR Doc. 03-11422 Filed 5-7-03; 8:45 am]

BILLING CODE 3510-16-P